DEPARTMENT OF LABOR

Employment and Training Administration

[TA-W-38,249]

Harriet & Henderson Yarns, Incorporated, Berryton Plant, Summerville, Georgia; Notice of Termination of Investigation

Pursuant to Section 221 of the Trade Act of 1974, an investigation was initiated on October 30, 2000 in response to a petition filed on behalf of workers at Harriet & Henderson Yarns, Inc., Barryton Plant, Summerville, Georgia.

The petitioner has requested that the petition be withdrawn. Consequently, further investigation in this case would serve no purpose, and the investigation has been terminated.

Signed in Washington, DC, this 28th day of December, 2000.
Linda G. Poole,
Certifying Officer, Division of Trade Adjustment Assistance.

[FR Doc. 01-1899 Filed 1-22-01; 8:45 am]

BILLING CODE 4510-30-M